DEPARTMENT OF LABOR

Employment and Training Administration

Senior Community Service Employment Program—Division of Older Worker Programs; Solicitation for Grant Applications, Section 502(e)—Procedures for Program Year PY 2004

Announcement Type: New. Notice of Solicitation for Grant Applications.

Funding Opportunity Number: SGA/DFA-04-102.

Catalog of Federal Domestic Assistance (CFDA) Number: 17.235.

Key Dates: Deadline for submission of proposals, July 21, 2004.

Executive Summary

The Senior Community Service Employment Program (SCSEP), authorized under title V of the Older Americans Act of 1965 (OAA), as amended by the Older Americans Act Amendments of 2000 (Pub. L. 106-501), provides subsidized, part-time, community service employment for low-income persons age 55 and older who have poor employment prospects, 42 U.S.C. 3056 et seq. Through this program, older workers have access to a wide range of SCSEP services as well as other employment assistance services available through the One-Stop Centers of the workforce investment system. Seniors enrolled in SCSEP can work up to 20 hours per week, and are employed in a wide variety of community service positions at non-profit and public facilities, including day-care centers, senior centers, schools, hospitals, faith-based and community organizations. These community service experiences are intended to lead to other employment positions within the private sector.

This solicitation announces the availability of approximately $2 million in PY2004 funds for the Section 502(e) program. The Department plans to award 4 to 10 grants with a minimum amount of $25,000 for current SCSEP grantees and a minimum amount of $150,000 for non-current SCSEP grantees.

The purpose of Section 502(e) of the OAA is to provide eligible older workers with second career training and placement opportunities with private business concerns, thus demonstrating their capabilities and new skills. Section 502(e) provides opportunities to initiate or enhance seniors' relationships with the private sector, promotes collaboration with the One-Stop Delivery System, and encourages the use of innovative strategies, including new work modes such as flex-time, flex-place, job sharing, and other arrangements relating to reduced physical exertion (OAA § 502(e)(2)). In addition, the Section 502(e) program is one of the best vehicles for obtaining job placements in the private for-profit sector, where wages and fringe benefits often exceed those in the public or non-profit sector.

I. Funding Opportunity Description

This SGA seeks to fund projects that will provide eligible older workers with second career training and placement opportunities with private business concerns. Proposed projects must be for specific geographic areas and must identify employers that will participate in the project, or methods that will be used to attract employer involvement. Proposed projects must also include innovative strategies, including new work modes such as flex-time, flex-place, job sharing, and other arrangements relating to reduced physical exertion.

The purpose of this section is to provide potential applicants with the information needed to make an informed decision about whether to apply for funds and to give a better sense of how the Section 502(e) program operates, and what functions and responsibilities are important to the program. It is not intended to be an all-inclusive description and does not reflect all the requirements of the program. Applicants who wish to learn more about the SCSEP are encouraged to review the law at 42 U.S.C. 3056 et seq. An applicant's failure to demonstrate that its proposed program meets the criteria in this section will make the application non-responsive. Applicants should also review the current regulations at 20 CFR Part 641, which were published on April 9, 2004 (69 FR 19014) and are effective on May 9, 2004, and the Older Worker (OW) Bulletins, which may be found on ETA's Division of Older Worker Program's homepage at http://www.doleta.gov/seniors. This additional information will serve as background on the SCSEP program. Applicants may use this information when drafting their responses to the Rating Criteria in Section V of this SGA. Applicants may review ETA's homepage at http://www.doleta.gov/sga/pdf/ApplyingGrants.pdf for information on applying for ETA grants and http://www.doleta.gov/sga/ for forms and information relating to competition for ETA grants. Program requirements include the following:

Seniors Served. Grantees must make sure that this project will promote useful part-time or full-time employment opportunities for unemployed low-income persons who are 55 years or older, and whose incomes are no higher than 125 percent of poverty level (OAA § 516(2)).

Priorities. There is a priority for service in all Department of Labor (DOL or Department) funded workforce development programs for veterans and certain eligible spouses under the Jobs for Veterans Act, Pub. L. 107-288 (2002). Section 516(2) of the OAA also sets a priority for workers over 60. The Department interprets the Jobs for Veterans Act to harmonize the two priority provisions. Under this interpretation, both priorities apply. That is, within the group of eligible individuals age 60 and over, who receive a priority over eligible individuals aged 55-59, the veteran or qualified spouse would receive SCSEP services before non-veterans. Within the group of individuals who are 55 to 59, veterans and qualified spouses would again receive a priority over other eligible individuals.

Recruiting. All grantees must recruit participants from the local SCSEP program. In doing so, Section 502(e) grantees that are not current SCSEP grantees may be exempt from conducting some of the program requirements, such as income certifications, assessments and IEPs and providing worker's compensation.

Individual Employment Plans (IEP). Each SCSEP Section 502(e) participant must have been assessed by the original grantee as required under the general SCSEP program. A participant's IEP must indicate a goal of unsubsidized employment for the participant to be co-enrolled in the Section 502(e) program.

Training. Training is an important tool to make the most effective use of the skills and talents of participants, to facilitate placement of participants in unsubsidized employment and to help them succeed in that employment. How much and what type of training a grantee should provide is based on each individual participant's IEP. Training should also be related to high growth industries.

Other Training Resources. Grantees should seek training assistance from all available resources, and particularly from programs operated under the Workforce Investment Act of 1998 (WIA) or the Carl D. Perkins Vocational and Technical Education Act. Where possible, co-enrollment in Section 502(e) training and WIA activities is strongly encouraged to leverage program funds. In addition, grantees may use the on-the-job-experience option described in Older Worker Bulletin 04-4 to provide private sector training opportunities using Wages and Fringe Benefits. See Part II, section 5 for a discussion on Wages and Fringe Benefits requirements.

Services for Individuals with Multiple Barriers to Employment. One emphasis of this program is addressing the needs of minority, limited English-speaking, and, where applicable, Indian eligible individuals as well as eligible individuals who have the greatest economic need to remove their barriers to obtaining employment. (OAA § 502(b)(1)(M)). “Greatest economic need” is defined as need resulting from an income level at or below the poverty. (OAA § 101(27)).

Coordination with the Workforce Investment Act, One-Stop Career Centers and SCSEP grantees, such as the states Area Agencies on Aging. Section 502(e) projects must be coordinated with One-Stop centers operated under WIA (29 U.S.C. 2801 et seq.).

The Department also encourages the coordination of Section 502(e) activities with the State aging network. In addition, under OAA Section 502(b)(4), participant assessments of eligibility, needs, and competence under SCSEP will satisfy any condition for an assessment under WIA and vice versa.

Geographic Locations. Another major emphasis of the program is for participants located nationwide to have an equitable opportunity to participate. The Department encourages applicants to offer the program in different localities.

Other Program Considerations

New Work Modes. Grantees are required to utilize new work modes for the participants in the program, such as flex-place, flex-time, job sharing and reduced physical activity (OAA § 502(e)(2)(A)).

Part-time or Full-time Training. Training may be part-time or full-time. Participants may also work at regular SCSEP assignments during the non-training hours.

Regulations

Grantees must abide by the requirements that are in place at the time the grants are awarded, and will be responsible for adhering to any revised requirements that go into effect during the grant period. The applicable regulations may be found on the SCSEP Web site at: http://www.doleta.gov/seniors.

II. Award Information

Under this solicitation, DOL anticipates that approximately $2 million will be available for grant awards in Program Year (PY) 2004 (July 1, 2004, through June 30, 2005). The minimum grant that may be awarded will be $25,000 for current SCSEP grantees, and $150,000 for non-current SCSEP grantees. Proposals for less than $25,000 or $150,000, respectively, will not be reviewed. The Department plans to award between 4 and 10 grants. The Department reserves the right to negotiate the amounts to be awarded under this competition. The expected period of performance is from October 1, 2004, through June 30, 2005, although the Program Year is from July 1, 2004, through June 30, 2005.

DOL retains the right not to fund any or all “eligible, responsive and responsible” applicants.

III. Eligibility Information

1. Eligible Applicants

Eligible applicants are: (1) States; (2) public agencies; (3) private non-profit organizations, including faith-based and community organizations; and (4) private business concerns. An organization that is a private business concern may be a for-profit public service organization such as a hospital, a day-care facility, etc., as well as a private, for-profit company. All of these are examples of workplaces that have profit-generating capability.

Applicants may apply as a consortium, but each member of the consortium must meet all eligibility and responsibility tests established in Section 515 of the OAA. Entities applying as a consortium are also jointly and severally liable for meeting all requirements for administering this Federally-funded program, and for performing any resulting grant. As a part of its applications, a consortium applicant must submit a copy of its consortium agreement which clearly demonstrates joint and several liability.

Under the Lobbying Disclosure Act of 1995, section 18 (29 U.S.C. 1611), an organization described in section 501(c)(4) of the Internal Revenue Code of 1986 that engages in lobbying activities shall not be eligible for the receipt of federal funds constituting an award, grant, or loan.

2. Cost Sharing or Matching

Cost sharing is not required to be eligible to receive Section 502(e) funds. In-kind or cash contributions are, however, encouraged. If private sector or other appropriate non-Federal contributions are involved, these funds may be included as a non-Federal contribution. DOL may consider matching funds in rating cost reasonableness.

3. Other Eligibility Criteria

Applicants must meet the applicable eligibility criteria and responsibility tests established in Section 514 of the OAA. Any applicant that fails to meet either of these tests will not be funded. Except as specifically provided, DOL/ETA's acceptance of a proposal and an award of Federal funds to sponsor any program(s) does not provide a waiver of any grant requirement and/or procedure. For example, the OMB circulars stipulate that an entity's entire procurement procedures and transactions, including subcontracts, must provide for free and open competition. If a proposal identifies a specific entity to provide the services, the DOL/ETA's award does not provide the justification or basis to sole-source the procurement, i.e., avoid competition, unless the activity is regarded as the primary work of an official partner to the application. The official partner must therefore identify the work it intends to do within the grant application and attach a letter of agreement to this effect.

IV. Application and Submission Information

1. Address To Request Application Package

This Solicitation for Grant Applications (SGA) includes all of the information needed to apply for Section 502(e) funds.

2. Content and Form of Application Submission

A cover letter, an original plus two (2) copies of the proposal, one (1) blue ink-signed original Standard Form (SF) 424 and one (1) blue ink signed original SF 424A must be submitted to the U.S. Department of Labor, Employment and Training Administration, Division of Federal Assistance, Attention: Eric Luetkenhaus, Ref. SGA/DFA-04-102, Room N-4438, 200 Constitution Avenue, NW., Washington, DC 20210, by the closing date identified in Section IV(3) below. This grant application must have two parts: (1) a technical proposal; and (2) a cost proposal.

Part I: Technical Proposal

The technical proposal must consist of a narrative not to exceed twenty (20) double-spaced pages, including all attachments except as noted below. The technical proposal must be organized in accordance with the evaluation criteria identified in Section V(1). Applicants who fail to follow the rating criteria format may be deemed non-responsive.

The narrative must be typed in a font size of no less than 12-pt., and printed on one side of the paper only. Attachments are to be placed in a separate appendix and should include any supporting documentation, but must be limited to meaningful information that contributes to, and/or verifies, the proposed activities. All attachments count against the 20-page limit, with the exception of required vitae or position descriptions, the list of current and prior government grants and contracts, recent audits, and employer Letters of Commitment. Any proposal that exceeds the page limit may be considered non-responsive. Non-responsive applications will not be rated.

The cost proposal must contain the required standard forms and budget information as described in Section IV (2) (Part II) below. It is required that all applicants use the Rating Criteria format when developing their proposals.

The Department will not read general letters of support. However, the Department expects applicants to provide employer Letters of Commitment indicating a willingness to partner with the program. The Department will accept all employer letters, but will only read up to 15.

Part II. Cost Proposal

The cost proposal must consist of a completed Standard Form (SF) 424 “Application for Federal Assistance,” SF 424A “Budget Information Sheet,” a detailed cost breakdown of each line item on the SF 424A, and supporting materials as listed below. Copies of all required forms, with instructions for completion, are included as appendices to this SGA. Additional copies can be downloaded from the SCSEP Web site at http://www.doleta.gov/seniors. Applicants can expect the cost proposal to be reviewed for allowability, how the money is allocated, and reasonableness of placement and enrollment costs. The cost proposal must include the following items:

(1) The Standard Form (SF) 424, “Application for Federal Assistance” (original signed in blue ink) (See Appendix A). Applicants must indicate on the SF 424 the organization's IRS Status, if applicable.

Please note that, effective October 1, 2003, all applicants for federal grant and funding opportunities are required to include a Dun and Bradstreet (DUNS) number with their application. See OMB Notice of Final Policy Issuance, 68 FR 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet number of the applicant should be entered in the “Organizational Unit” section of block 5 of the SF 424. The Catalog of Federal Domestic Assistance number for this program is 17.235. It must be entered on the SF 424, Block 10.

(2) A Standard Form (SF) 424A “Budget Information Sheet” (See Appendix B).

(3) A detailed cost breakout of each line item on the Budget Information Sheet, which should be labeled as “Budget Narrative.” Please ensure that costs reported on the SF 424A correspond accurately with the Budget Narrative. The budget narrative must include the following information at a minimum:

• A breakout of all personnel costs by position, title, salary rates, and percent of time of each position to be devoted to the proposed project (including awardees);

• An explanation and breakout of extraordinary fringe benefit rates and associated charges (i.e., rates exceeding 35% of salaries and wages);

• An explanation of the purpose and composition of, and method used to derive the costs, of each of the following: travel, equipment, supplies, sub-awards/contracts, and any other costs. The applicant must include costs of any required travel described in this solicitation. Mileage charges may not exceed 37.5 cents per mile;

• A description/specification of and justification for equipment purchases, if any. Tangible, non-expendable personal property having a useful life of more than one year and a unit acquisition cost of $5,000 or more per unit must be specifically identified;

• The source of matching and in-kind funds, if any.

(4) Assurance and Certification signature page (See Appendix D);

(5) Evidence of satisfactory financial management capability, which must include recent financial and/or audit statements;

(6) A list, in a separate appendix, of all government grants and contracts that the applicant or any of its affiliates has had in the past three (3) years, including grant officer contact information. For purposes of this SGA, the term “affiliate” refers to the applicant's subsidiaries, divisions, predecessors, and successors;

(7) A copy of the applicant's most recent (within 12 months) audited financial statement.

3. Submission Dates, Times, and Addresses

All submissions, including hand-delivered grant proposals, must be received in the Department by 4:45 p.m., eastern time, on July 21, 2004 at the address listed in Section IV(2) above.

Dates stamped by private delivery service or by the U.S. Postal Service are unacceptable as proof of submission; however, applicants are advised to submit mailed documents by “return receipt requested.”

Notice: All applicants are advised that U.S. mail delivery in the Washington, DC, area continues to be erratic due to the concerns involving anthrax and ricin contamination. All applicants must take this into consideration when preparing to meet the application deadline, as each applicant assumes the risk for ensuring a timely submission of its application. If, because of these mail problems, or for any other reason, the Department does not receive an application or receives it too late to give it proper consideration, even if the application was mailed or sent well before the closing date, the Department may choose not to consider the application.

Please note that faxed applications will not be accepted. Applications not received by the closing date may not be accepted.

Failure to adhere to any of the above instructions may be a basis for a determination of non-responsiveness.

4. Intergovernmental Review

This funding opportunity is not subject to Executive Order (EO) 12372, “Intergovernmental Review of Federal Programs.”

5. Funding Restrictions

SCSEP is subject to legislated limitations on the expenditure of title V funds. The administrative cost limitation of a SCSEP project is 13.5 percent of the Federal share; however, the Grant Officer may increase this limit, but only up to 15 percent of the cost of the project. (OAA § 502(c)(3)). Any applicant requesting an administrative cost higher than 13.5 percent as part of this initial application must justify that request as part of its application. Note, however, that submission of a justification alone does not entitle the applicant to approval of a higher administrative cost limit. Any decision to approve a higher administrative limit will be made on a case-by-case basis.

Other Allowable Costs

Wages and Fringe Benefits. There is a minimum or “floor” on the grant funds that must be spent on participant wages and fringe benefits. That floor is 75 percent of the total Federal share, which reflects Congressional concern that low-income program participants be the primary beneficiaries of the funding. (OAA § 502(c)(6)(B)). If the applicant who is applying for Section 502(e) funding is also a grantee for the SCSEP program, the grantee is required to maintain the 75 percent requirement for the entire funding amount, i.e., SCSEP plus Section 502(e) funding. In addition, grantees may use wages and fringe benefits to cover the costs of on-the-job-experience training.

Other Participant Costs. Costs that are to be used for participant training, counseling, job development, and similar activities are known as “Other Participant Costs” (OAA § 502(c)(6)(A)). The available Federal share for Other Participant Costs is that part of the Federal grant allocation that is not used for administrative costs or participant wages and fringe benefits. The difference between (1) the total grant allotment and (2) the sum of the administrative costs and participant wages and fringe benefits is called “Other Participant Costs.” The formula is: Total Grant Allotment—(Administrative Costs + Wages and Fringe Benefits) = Other Participant Costs.

Start-up Costs. Specific start-up costs are not statutorily provided for in SCSEP projects. However, according to Section 502(c)(4) of the OAA, the cost of administration (limited to 13.5 percent, or 15 percent with Department approval), includes the costs associated with such goods and services required for administration of the program as rental or purchase of equipment, utilities, office supplies, postage, and rental and maintenance of office space. Generally, these costs are incurred after the beginning of a grant period. However, the Department will allow awardees who are new to the program to obtain such items up to one month before the beginning of the start-up of the program, consistent with the applicable OMB circulars.

Workers' Compensation. Grantees must provide the participants in the program with workers' compensation benefits equal to that provided by the law for covered employment. The grantee must undertake to provide this benefit either through insurance by a recognized carrier or by self-insurance, as authorized by State law (Section 504(b) of the OAA).

6. Other Submission Requirements

Withdrawal of Applications. Applications may be withdrawn by written notice or telegram (including mailgram) received at any time before an award is made. Applications may be withdrawn in person by the applicant or by an authorized representative thereof, if the representative's identify is made known and the representative signs a receipt for the proposal.

V. Application Review Information

1. Criteria

The following review criteria, totaling a maximum score of 100 points, apply to all applications. An applicant's technical proposal must be organized according to these criteria.

(A) Program Design—Approach, Population(s) and Area(s) Served (30 Points)

Overall Objectives. The applicant must describe the overall plan for how it will realize the purposes of the program, which are to assure second career training and the placement of eligible individuals in employment opportunities with private business concerns, with an emphasis on new work modes. The program seeks to promote employment opportunities for unemployed, low-income persons, to foster individual economic self-sufficiency, and to increase the number of persons who may enjoy the benefits of unsubsidized employment (5 points).

Characteristics of Geographic Locations. The applicant must describe the geographic area(s) that will be served by the proposed program. The applicant must include a detailed list of the locations broken down by (a) state, and (b) county or parish (or independent cities not within any county, if applicable) where the project will be conducted. Grantees that have previously conducted these projects are encouraged to conduct their projects in different localities from year-to-year. To receive full credit, the applicant must also discuss the rationale for choosing such location(s) including: (1) Location of intended employer(s), whether urban, suburban, or rural; (2) recent poverty and unemployment rates for those areas; (3) expected participant skills and education levels; (4) expected barriers to employment; and, (5) additional services that the program/employer will provide to those facing barriers to employment (12 points).

An applicant who fails to list the locations desired will be considered non-responsive and will not be rated.

Training. The applicant must describe the types of training it will engage in for the identified population(s) it will serve. To receive full credit, the applicant must describe how it plans to utilize training resources, such as those provided under the Workforce Investment Act of 1998 and though the registered Apprenticeship Program (see Web site at http://www.doleta.gov/atels_bat) (5 points).

Participant Recruitment, Selection and Income Certification. The applicant must describe its plan to recruit and select participants and must:

—Explain how eligibility will be determined and documented; and

—Describe efforts to assure participation of minority, limited English-speaking, and Indian eligible individuals, and individuals with greatest economic need and those with poor employment prospects.

Applicants who are not current SCSEP grantees must describe how they will coordinate with the SCSEP grantees to recruit participants (6 points).

Complaint Resolution System. The applicant must briefly discuss the complaint resolution system that it will use in cases where a participant wishes to dispute an adverse action or in cases where an applicant for enrollment wishes to dispute an unfavorable determination of eligibility. If available, provide as an attachment an example of the written explanation of the complaint resolution system that is to be given to each participant (2 points).

(B) Participant Services and Unsubsidized Placements (30 Points)

The applicant must describe the services that will be provided to the participants, either directly, through the One-Stop Center System, or through other service providers.

Orientation and Supportive Services. Applicants must describe participant orientation procedures. Applicants must describe the supportive services to be provided to participants and the source(s) of these services. The supportive services offered must be geared to help participants obtain or retain employment, with emphasis on coordinating with networks of faith-based or community organizations that provide such services. Where applicable, applicants must describe the arrangements that will be made to provide transportation assistance to participants and/or the reimbursement rate for transportation. To receive full credit, the applicant must also identify the source for providing such supportive services (6 points).

Placement into Unsubsidized Employment. The applicants must:

—Describe the steps that will be taken to transition participants into unsubsidized employment.

—Include examples or anticipated content of the cooperative arrangements that will be made with the Workforce Investment Board and One-Stop centers to place participants into unsubsidized employment (OAA § 502(b)(1)(O)).

—Describe placement follow-up efforts that will be utilized.

Applicants must describe the procedures to be followed in developing assessments of participants, including assessing the job aptitudes, job readiness, and job preferences of participants, as well as their potential for transition into unsubsidized employment. Training should be related to the participant's assessment and IEP as well as to the unsubsidized employment goal. Training may also be developmental (i.e., the skills developed will enhance the participants' unsubsidized employment opportunities). Non-SCSEP applicants must describe how they will ensure that the assessment and IEP are adequate for the training opportunities developed and the intended unsubsidized placement.

Applicants must describe how it will match participants to the appropriate employers and ensure that participants have the support they need to stay in their position, (i.e., provide the needed supportive services). Applicants must also indicate what is expected to be the average wage at placement (12 points).

Work with Area Employers and New Work Modes. The applicant must describe how it plans to identify what the needs of area employers are, the skills in demand, how any skills gaps might be filled, the jobs expected to be available in the area, the strategies that it will use to provide participants with the skills needed by employers, and strategies it will use to match participants with employers. The applicant must use Labor Market Information and other resources to identify growth industries located in its areas of operation, in order to focus on them as a source of placement and must describe how it will obtain such information.

Applicants must describe how they will utilize new work modes such as flex-place, flex-time, job sharing and reduced physical activity (OAA § 502(e)(2)(A)). To receive full credit, applicants must describe how they will place participants in high growth industries such as healthcare, retail, manufacturing, construction, and/or transportation (12 points).

(C) Benefits to Employers (10 Points)

Applicants must describe the benefits that employers will enjoy from participating in the program, how their needs will be addressed, and how the service strategy will prepare participants with the skills employers need from their employees. Applicants must identify their project's Expected Employment Rates (EER), and show how they can place their participants in an unsubsidized job, at a rate of 75 percent or above. The EER is calculated by dividing the number of participants placed in unsubsidized jobs by the total number of project participants. This calculation must be based upon the expected retention rate 6 months after placement (10 points).

(D) Staffing and Fiscal Oversight (30 Points)

Staffing. The applicant must describe the management structure for the proposed project. The applicant must include a staffing plan or project organizational chart describing the relationship between the applicant and planned sub-grantees and/or key host agencies. The chart must identify staff with key management responsibilities and show their expected portion of time dedicated to the project (if less than 100 percent). The applicant must include a brief description of its specific, relevant experience (and, as appropriate, the experience of significant sub-grantees) in serving senior populations, serving people with barriers to employment, and/or in administering other employment-related or other Federal programs. The applicant must also include position descriptions and, if available, vitae for key staff in management and participant services (4 points).

Program Oversight and Sub-grants. The applicant must describe its procedures for managing any proposed sub-grantees or contractors, including training providers, to ensure effective program operations. The applicant must provide, for example, an explanation of how it will ensure that adequate resources are made available for local level operations, and how it will establish a mechanism for the tracing of funds to a level of expenditure adequate to ensure that funds have been spent lawfully.

The applicant must describe the methods and procedures to be used to monitor and evaluate project activities, sub-grantees, and contractors to determine if the project is being administered in accordance with Federal guidelines and regulations and if project goals and timetables are being met. Include in this explanation:

—How frequently monitoring/evaluation visits will be made to projects (generally local projects should be monitored no less than annually);

—Who will be responsible for monitoring/evaluation;

—What criteria will be used to monitor and evaluate project activities;

—What methods will be used to prescribe remedial action when necessary;

—What follow-up procedures will be used to ensure that any identified problem has been remedied; and

—How sub-grantee or project reports will be validated and made part of permanent files.

If applicable, applicants that are considering utilizing sub-grantees or sub-contractors are also required to submit the criteria they plan to use in selecting sub-grantees and sub-contractors. Such applicants must provide a timeframe for competing and/or awarding sub-grants and sub-contracts, whether awarded competitively or non-competitively, including the planned dates of the awards and performance (12 points).

Cost Reasonableness. Average costs per participant are estimated to be $2,500. The applicant must justify any higher cost per participant. The cost per placement is the Federal cost divided by the number of participants. Applicants are required to address the following points:

—The expected cost per placement (total Federal cost of the project divided by the number of participants placed); and

—If provided, describe any in-kind donations, or contributions from states or the private sector (4 points).

Financial Monitoring. Applicants must describe how the financial management system of sub-grantees and projects will be monitored, including:

—Who will be responsible for monitoring sub-grantee and affiliate expenditures;

—How frequently monitoring of expenditures will be done;

—How financial reports will be validated; and

—What follow-up procedures will be used (6 points).

Audits. Applicants must describe coverage plans to audit projects as well as plans to audit the headquarters activities. The applicant must provide specific references to the most recent audit and include the name of the audit firm and the date of that audit (4 points).

Points Summary

(A) Program Design—Approach, Population(s) and Area(s) Served (30 points)

(B) Participant Services and Unsubsidized Placements (30 points)

(C) Benefits to Employers (10 points)

(D) Staffing and Fiscal Oversight (30 points)

Total = 100 points

2. Review and Selection Process

A technical review panel will evaluate applications against the rating criteria in Section V (1). Responding alone is not grounds enough for receiving a satisfactory score. Applications will be ranked based on the score assigned by the panel after careful evaluation by each panel member.

The ranking will be the primary basis used to identify applicants as potential grantees. Proposals that do not merit a minimum score of 80 out of 100 will not be considered for an award. The panels' conclusions are advisory in nature and not binding on the Grant Officer. In deciding whether to award a grant to an applicant, the Grant Officer will, when appropriate, also take into account the applicant's past performance in its prior Federal grants or contracts for the past three (3) years as it relates to the applicant's or its affiliate's demonstration of financial and administrative responsibility and program performance. The information the Grant Officer considers may include: (1) The applicant's level of cooperation with Grant Officer(s), the applicant's Federal technical representatives, and Federal auditors and investigators; and (2) the sufficiency of the administrative costs to sub-grantees, subcontractors, or other affiliates. (A list of the applicant's prior Federal grants and contracts must be attached to the proposal). The Department reserves the right to ask for clarification or to hold discussions, but is not obligated to do so. In awards without discussions, an award will be made on the applicant's signature on the SF 424, which constitutes a binding offer. The Department further reserves the right to select applicants out of rank order if such a selection would, in its opinion, result in: the most effective and appropriate combination of funding; the most effective administrative structure (i.e., whether the organization is simply passing through funds, or whether it is also providing oversight coordination, monitoring, etc., for accountability purposes); meeting program goals (i.e., serving the needs of: minorities, limited English speakers, Indian eligible individuals, those with poor employment prospects, and those of greatest economic need); and a broad distribution of geographical service areas. Such items may be negotiated before we award a grant. If the negotiations do not result in an acceptable submission, the Department has the right to decline to fund an applicant's proposal.

3. Anticipated Announcement and Award Dates

Award decisions will be made no later than September 30, 2004.

VI. Award Administration Information

1. Award Notices

All award notifications will be posted on the ETA Homepage at http://www.doleta.gov. Grant awards will be made no later than September 30, 2004. Any applicant that is not selected as a potential grantee or whose application has been denied in part or in whole by the Department will be notified in writing by the Grant Officer.

2. Administrative and National Policy Requirements

Grantees must comply with the provisions of the Older Americans Act, as amended, and its implementing regulations, including the administrative standards and limitations on title V funds identified in 20 CFR Part 641, subpart H (69 FR 19014). Additionally, all grants will be subject to the following administrative standards and provisions, if applicable to the particular grantee:

• 29 CFR part 31—Nondiscrimination in Federally Assisted Programs of the Department of Labor—Effectuation of title VI of the Civil Rights Act of 1964;

• 29 CFR part 32—Nondiscrimination on the Basis of Handicap In Programs and Activities Receiving or Benefiting from Federal Financial Assistance;

• 29 CFR part 35—Nondiscrimination on the Basis of Age in Programs or Activities Receiving Federal Financial Assistance from the Department of Labor;

• 29 CFR part 37—Implementation of the Non-discrimination and Equal Protection Provisions of the Workforce Investment Act of 1998 (WIA) (to the extent that grantees are One-Stop partners and participants in the One-Stop delivery system, see 29 CFR 37.4).

• 29 CFR part 93—New Restrictions on Lobbying;

• 29 CFR part 95—Grants and Agreements with Institutions of Higher Education, Hospitals, and Other Non-Profit Organizations, and with Commercial Organizations, Foreign Governments, Organizations under the Jurisdiction of Foreign Governments, and International Organizations;

• 29 CFR part 96—Audit Requirements for Grants, Contracts and Other Agreements;

• 29 CFR part 97—Uniform Administrative Requirements for Grants and Cooperative Agreements to State and Local Governments; and

• 29 CFR part 98—Government-wide Debarment and Suspension (Non-procurement) and Government-wide Requirement for a Drug-Free Workplace.

In accordance with 20 CFR 641.836, projects funded under this SGA may not involve political activities. Additionally, in accordance with Section 18 of the Lobbying Disclosure Act of 1995, Public Law 104-65 (2 U.S.C. 1611), non-profit entities covered by Section 501(c)(4), of the Internal Revenue Code of 1986 that engage in lobbying activities are not eligible to receive Federal funds and grants. Further, this program is subject to the provisions of 38 U.S.C. 4215, as amended by the “Jobs for Veterans Act,” Pub. L. 107-288, which provides priority of service to veterans and spouses of certain veterans for the receipt of employment, training and placement services in any job training program directly funded, in whole or in part, by the Department of Labor. Please note that, to obtain priority of service, a veteran must meet the program's eligibility requirements. ETA Training and Employment Guidance Letter (TEGL) No. 5-03 (September 16, 2003) provides general guidance on the scope of the veteran's priority statute and its effect on current employment and training programs. The TEGL can be found at: http://ows.doleta.gov/dmstree/tegl/tegl2K1/tegl_05-03.htm. The Department anticipates updating this guidance at the time of WIA reauthorization and issuing individual guidance on each affected employment and training program.

3. Reporting

The Department wants to ensure that all eligible participants are well served by the grantees. It is strongly committed to a system-wide continuous improvement approach, based on quality principles and practices. Performance accountability ensures that the program is successful and that it is aligned with the One-Stop system and with the WIA performance measures. All selected applicants must agree to be evaluated on performance measures as a condition of the grant award (OAA § 513(a)(5)).

New performance measures will go into effect with the new SCSEP regulations, that were published on April 9, 2004. The Department intends to apply common measures to all its employment and training programs. The common measures are: (1) Entered employment; (2) retention; and (3) earnings increase. Please refer to Training and Employment Guidance Letter (TEGL) number 7-01 for additional information and definitions for the common measures. TEGLs can be accessed on the DOL Web site at: http://www.ows.doleta.gov/dmstree/tegl/tegl2k1/tegl_07.01.htm. For purposes of the Section 502(e) program, the goal for unsubsidized placements is at least 75% of participants, although grantees should try to place 100% of the participants.

The grantee may be asked to collect new data during this performance cycle. For the purposes of Section 502(e), grantees will report progress towards their goals on a quarterly basis, as part of their progress reports. If grantees also have a non-502(e) grant, they will submit a separate report for their Section 502(e) grants entitled “Private Sector Projects.” Multiple private sector projects may be combined into one report. Other reports may be requested as needed.

Applicants must have current computer technology and ensure that their organizations have the capability to link to the Internet. Reporting must be done through the EIMS system, accessed through the Internet. The Department will provide all of the necessary instructions to facilitate the grantee's access to the system.

Quarterly Progress Reports

In accordance with 29 CFR 97.40 or 29 CFR 95.51, each grantee must submit a Senior Community Service Employment Program Quarterly Progress Report (QPR). This report must be prepared to coincide with the ending dates for Federal fiscal year quarters and must be submitted to the Department no later than 30 days after the end of the quarterly reporting period. If the grant period ends on a date other than the last day of a federal fiscal year quarter, the last quarterly report covering the entire grant period must be submitted no later than 30 days after the ending date. The Department will provide the format and instructions for the preparation of this report.

Financial Status Reports

The following financial reporting requirements apply to title V grants:

—An SF-269, Financial Status Report (FSR), must be submitted to the Department within 30 days after the ending of each quarter of the program year.

—A final FSR must be submitted within 90 days after the end of the grant.

—All FSRs must be prepared on an accrual basis.

Should a current SCSEP grantee be a successful applicant, its Section 502(e) costs will be collected in a separate report. Progress reports will be required on a quarterly basis. The Department will provide the format for the quarterly progress report.

VI. Agency Contacts

Questions should be faxed to Eric Luetkenhaus, Grant Officer, Division of Federal Assistance at (202) 693-2705 [This is not a toll free number]. All inquiries should include the SGA/DFA 04-102 and a contact name, fax and phone number. For more information contact Mr. Luetkenhaus at (202) 693-3109 [This is not a toll free number]. This solicitation will also be published on the Internet, on ETA's SCSEP homepage at http://www.doleta.gov/seniors, and the ETA homepage at http://www.doleta.gov.

If assistance is needed, non-title V grantee applicants should fax questions on identifying existing SCSEP programs and location of current positions.

VIII. Other Information

Other Applicant Considerations

An applicant may submit multiple proposed projects within a single proposal; however, the applicant must submit a separate budget for each project and the narrative in the technical proposal must sufficiently identify the services to be provided for each project. For instance, if an applicant proposes to run a computer-related training course and a separate furniture manufacturing training course, a separate budget must be submitted that identifies the costs associated with each training. The Department may choose to fund one or the other, or both. Proposals including multiple projects must comply with the 20 page limit for total proposal length (this is, all projects must be discussed within 20 pages).

Signed at Washington, DC, this 28 day of May, 2004.
Emily Stover DeRocco,
Assistant Secretary of Labor, Employment and Training Administration.

Appendices

Appendix A: Application for Federal Assistance, Standard Form 424 SF-424 In MS Word

Appendix B: Budget Information Sheet, Standard Form 424-A SF-424A In MS Word

Appendix C: Standard Form 424-A Clarifying Instructions

Appendix D: Assurances and Certifications Signature Page

Appendix E: OMB No. 1890-0014: Survey on Ensuring Equal Opportunity For Applicants

BILLING CODE 4510-30-P

[FR Doc. 04-12896 Filed 6-7-04; 8:45 am]

BILLING CODE 4510-30-C